DEPARTMENT OF HOMELAND SECURITY

Federal Emergency Management Agency

[Docket ID: FEMA-2020-0021; OMB No. 1660-0118]

Agency Information Collection Activities: Submission for OMB Review; Comment Request; Homeland Security Exercise and Evaluation Program (HSEEP) Documentation

AGENCY: Federal Emergency Management Agency, Homeland Security (DHS).

ACTION: 30 Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 17, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kate Bogan, National Exercise Division, Analytics and Narrative Management Section Chief, 400 C Street SW, Washington, DC 20024, (telephone) 202.679.9820, or (email) Kate.Bogan@fema.dhs.gov. Requests for additional information or copies of the information collection should be made to Director, Information Management Division, email address FEMA-Information-Collections-Management@fema.dhs.gov.

SUPPLEMENTARY INFORMATION: This proposed information collection previously published in the Federal Register on April 24, 2020, at 85 FR 23054 with a 60 day public comment period. No comments were received. The purpose of this notice is to notify the public that FEMA will submit the information collection abstracted below to the Office of Management and Budget for review and clearance.

Collection of Information

Title: Homeland Security Exercise and Evaluation Program (HSEEP) Documentation.

Type of information collection: Extension, without change, of a currently approved information collection.

OMB Number: 1660-0118.

Form Titles and Numbers: FEMA Form 091-0, After Action Report/Improvement Plan (AAR/IP); FEMA Form 008-0-26, Multi-Year Training Exercise Plan (TEP); FEMA Form 008-0-27, National Exercise Program (NEP) Nomination Form.

Abstract: The Homeland Security Exercise and Evaluation Program (HSEEP) Documentation collection provides reporting on the results of preparedness exercises and provides assessments of the respondents' capabilities so that strengths and areas for improvement are identified, corrected, and shared as appropriate prior to a real incident. This information is also required to be submitted as part of certain FEMA grant programs.

Affected Public: State, local, or Tribal governments.

Estimated Number of Respondents: 268.

Estimated Number of Responses: 704.

Estimated Total Annual Burden Hours: 23,208 hours.

Estimated Total Annual Respondent Cost: $1,469,995.

Estimated Respondents' Operation and Maintenance Costs: 0.

Estimated Respondents' Capital and Start-Up Costs: 0.

Estimated Total Annual Cost to the Federal Government: $67,950.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-15337 Filed 7-16-20; 8:45 am]

BILLING CODE 9111-27-P